DEPARTMENT OF HEALTH AND HUMAN SERVICES

Centers for Medicare & Medicaid Services

Privacy Act of 1974; Computer Matching Program (Match No. 2002-02)

AGENCY: Department of Health and Human Services (HHS), Center for Medicare & Medicaid Services (CMS) (formerly the Health Care Financing Administration).

ACTION: Notice of Computer Matching Program.

SUMMARY: In accordance with the requirements of the Privacy Act of 1974, as amended, this notice establishes a computer matching agreement between CMS and the Department of Defense (DoD). We have provided background information about the proposed matching program in the “Supplementary Information” section below. Although the Privacy Act requires only that CMS provide an opportunity for interested persons to comment on the proposed matching program, CMS invites comments on all portions of this notice. See DATES section below for comment period.

DATES: CMS filed a report of the Computer Matching Program with the Chair of the House Committee on Government Reform and Oversight, the Chair of the Senate Committee on Governmental Affairs, and the Administrator, Office of Information and Regulatory Affairs, Office of Management and Budget (OMB) on August 1, 2003. We will not disclose any information under a matching agreement until 40 days after filing a report to OMB and Congress or 30 days after publication. We may defer implementation of this matching program if we receive comments that persuade us to defer implementation.

ADDRESSES: The public should address comments to: Director, Division of Privacy Compliance Data Development (DPCDD), Enterprise Databases Group, Office of Information Services, CMS, Mail stop N2-04-27, 7500 Security Boulevard, Baltimore, Maryland 21244-1850. Comments received will be available for review at this location, by appointment, during regular business hours, Monday through Friday from 9 a.m.-3 p.m., eastern daylight time.

FOR FURTHER INFORMATION CONTACT: Walter Stone, Senior Paralegal Specialist, Division of Data Liaison and Distribution, Enterprise Databases Group, Office of Information Services, CMS, Mail stop N2-04-27, 7500 Security Boulevard, Baltimore, Maryland 21244-1850. The telephone number is (410) 786-5357, or facsimile (410) 786-5636.

SUPPLEMENTARY INFORMATION:

I. Description of the Matching Program

A. General

The Computer Matching and Privacy Protection Act of 1988 (Public Law (Pub. L.) 100-503), amended the Privacy Act (5 U.S.C. 552a) by describing the manner in which computer matching involving Federal agencies could be performed and adding certain protections for individuals applying for and receiving Federal benefits. Section 7201 of the Omnibus Budget Reconciliation Act of 1990 (Pub. L. 100-508) further amended the Privacy Act regarding protections for such individuals. The Privacy Act, as amended, regulates the use of computer matching by Federal agencies when records in a system of records (SOR) are matched with other Federal, state, or local government records. It requires Federal agencies involved in computer matching programs to:

1. Negotiate written agreements with the other agencies participating in the matching programs;

2. Obtain the Data Integrity Board approval of the match agreements;

3. Furnish detailed reports about matching programs to Congress and OMB;

4. Notify applicants and beneficiaries that the records are subject to matching; and,

5. Verify match findings before reducing, suspending, terminating, or denying an individual's benefits or payments.

B. CMS Computer Matches Subject to the Privacy Act and/or Privacy Rule

CMS has taken action to ensure that all CMPs that this Agency participates in comply with the requirements of the Privacy Act of 1974, as amended, and the Health Insurance Portability and Accountability Act (45 CFR parts 160 and 164, 65 FR 82462 (12-28-00), subparts A and E.

Dated: August 1, 2003.
Thomas A. Scully,
Administrator, Centers for Medicare & Medicaid Services.

Computer Match No. 2002-02

Name:

“Verification of CHAMPUS/TRICARE Eligibility for Military Health System Beneficiaries Who are Medicare Eligible and Under the Age of 65.”

Security Classification:

Level Three Privacy Act Sensitive

Participating Agencies:

The Centers for Medicare & Medicaid Services (CMS); and Department of Defense (DoD), Manpower Data Center (DMDC), Defense Enrollment and Eligibility Reporting System Office (DEERS), and the Office of the Assistant Secretary of Defense (Health Affairs)/TRICARE Management Activity (TMA).

Authority for Conducting Matching Program:

This agreement implements the information matching provisions of the National Defense Authorization Acts (NDAA) for Fiscal Years (FY) 1992 and 1993 (PL 102-190) § 704, which provide for reinstatement of CHAMPUS as second payer for beneficiaries entitled to Medicare on the basis of disability/ESRD only if they also enroll in Part B, and the 1996 NDAA (Public Law 104-106) § 732, which amended § 1086(d) of title 10, U.S.C., and directed the administering Secretaries to develop a mechanism for notifying beneficiaries of their ineligibility for CHAMPUS when loss of eligibility is due to disability status.

Purpose(s) of the Matching Program:

The purpose of this agreement is to establish the conditions, safeguards and procedures under which CMS will disclose Medicare enrollment information to the DoD. This disclosure will provide TMA with the information necessary to determine if an individual is eligible to receive extended TRICARE coverage.

Current law requires TMA to discontinue military health care benefits to disabled individuals when they become eligible for Medicare Part A because of disability or End Stage Renal Disease (ESRD), unless they are enrolled in Medicare Part B. In order for TMA to meet these requirements, CMS agrees to disclose Part A and Part B enrollment data on this dual eligible population, which will be used to determine a beneficiary's eligibility for continued care under TRICARE. DMDC/DEERS will receive the results of the computer match and provide the information to TMA for use in its program.

Categories of Records and Individuals Covered by the Match:

DEERS will furnish CMS with an electronic file on a monthly basis extracted from DEERS' system of records identified as S322.50, entitled “Defense Eligibility Records (DER),” containing social security numbers (SSN) for all DoD eligible beneficiaries under the age of 65 who may also be eligible for Medicare benefits. CMS will match the DEERS file against its “Enrollment Database” system of records (formerly known as the Health Insurance Master Record), System No. 09-70-0502, and will validate the identification of the beneficiary and provide the Health Insurance Claims Number (HICN) that matches against the SSN and date of birth provided by DEERS, and also provide the Medicare Part A entitlement status and Part B enrollment status of the beneficiary. CMS's data will help TMA to determine a beneficiary's eligibility for continued care under TRICARE. DEERS will receive the results of the computer match and provide the information provided to TMA for use in its program.

Inclusive Dates of the Match:

The Matching Program shall become effective no sooner than 40 days after the report of the Matching Program is sent to OMB and Congress, or 30 days after publication in the Federal Register, which ever is later. The matching program will continue for 18 months from the effective date and may be renewed every 12 months thereafter, as long as the statutory language for the match exists and other conditions are met.

[FR Doc. 03-20777 Filed 8-15-03; 8:45 am]

BILLING CODE 4120-01-P